DEPARTMENT OF HEALTH AND HUMAN SERVICES

Substance Abuse and Mental Health Services Administration

Agency Information Collection Activities: Submission for OMB Review; Comment Request

Periodically, the Substance Abuse and Mental Health Services Administration (SAMHSA) will publish a summary of information collection requests under OMB review, in compliance with the Paperwork Reduction Act (44 U.S.C. Chapter 35). To request a copy of these documents, call the SAMHSA Reports Clearance Officer on (240) 276-1243.

Project: Target Capacity Expansion grants for Jail Diversion Programs—(OMB No. 0930-0277)—Revision

The Substance Abuse and Mental Health Services Administration's (SAMHSA), Center for Mental Health Services (CMHS) has implemented the Targeted Capacity Expansion Grants for Jail Diversion Programs, the Jail Diversion and Trauma Recovery Program represents the current cohort of grantees. The Program currently collects client outcome measures from program participants who agree to participate in the evaluation. Data collection consists of interviews conducted at baseline, six and twelve intervals, as well the collection of data on participants from existing program records.

The current proposal requests the continuation of the data collection instruments previously approved by OMB. The only revision requested is a reduction in the respondent burden hours.

The following tables summarize the burden for the data collection.

CY 2013 Annual Reporting Burden
Data collection activity | Number of respondents | Responses per respondent | Total responses | Average hours per response | Total hour burden | Hourly rate | Total hour cost
Client Interviews for FY2008, FY2009, FY2010
Baseline (at enrollment) | 462 | 1 | 462 | 0.95 | 439 | $7.25 | $3,182
6 months | 370 | 1 | 369 | 0.92 | 340 | 7.25 | 2,465
12 months | 313 | 1 | 313 | 0.92 | 288 | 7.25 | 2,090
Sub Total | 1,145 |  | 1,145 |  | 1,067 |  | 7,737
Record Management by FY2008, 2009, 2010 Grantee Staff
Events Tracking | 13 | 500 | 6,500 | 0.03 | 195 | 15 | 2,925
Person Tracking | 13 | 50 | 650 | 0.1 | 36 | 15 | 540
Service Use | 13 | 50 | 650 | 0.17 | 110.5 | 15 | 1,658
Arrest History | 13 | 50 | 650 | 0.17 | 110.5 | 15 | 1,658
Sub Total | 52 |  | 8,450 |  | 452 |  | 6,780
FY2008, FY2009, and FY2010 Grantees
Interview and Tracking data submission | 13 | 12 | 48 | 0.17 | 8 | 25 | 200
Overall Total | 1,210 |  | 9,643 |  | 1,527 |  | 17,642

CY 2014 Annual Reporting Burden
Data collection activity | Number of respondents | Responses per respondent | Total responses | Average hours per response | Total hour burden | Hourly rate | Total hour cost
Client Interviews for FY2009 and 2010 Grantees
Baseline (at enrollment) | 293 | 1 | 293 | 0.83 | 243.19 | $7.25 | $1,763
6 months | 234 | 1 | 234.4 | 0.92 | 215.648 | 7.25 | 1,563
12 months | 253 | 1 | 253 | 0.92 | 232.76 | 7.25 | 1,688
Sub Total | 780.4 |  | 780.4 |  | 692 |  | 5,014
Record Management by FY2009 and FY2010 Grantee Staff
Events Tracking | 7 | 500 | 3,500 | 0.03 | 105 | 15 | 1,575
Person Tracking | 7 | 50 | 350 | 0.1 | 36 | 15 | 540
Service Use | 7 | 50 | 350 | 0.17 | 59.5 | 15 | 893
Arrest History | 7 | 50 | 350 | 0.17 | 59.5 | 15 | 893
Sub Total | 28 |  | 4,550 |  | 260 |  | 3,900
FY2009 and FY2010 Grantees
Interview and Tracking data submission | 7 | 12 | 48 | 0.17 | 8 | 25 | 200
Overall Total | 815 |  | 5,378 |  | 960 |  | 9,114

Annualized Reporting Burden
Data collection activity | Annualized number of respondents | Annualized total responses | Annualized total hour burden
Baseline (at enrollment) | 378 | 378 | 243
6 months | 302 | 302 | 278
12 months | 283 | 283 | 260
Events Tracking | 10 | 5,000 | 150
Person Tracking | 10 | 500 | 36
Service Use | 10 | 500 | 85
Arrest History | 10 | 500 | 85
Interview and Tracking Data Submission | 10 | 48 | 8
Total Annualized | 1,013 | 7,511 | 1,146

Written comments and recommendations concerning the proposed information collection should be sent by September 24, 2012 to the SAMHSA Desk Officer at the Office of Information and Regulatory Affairs, Office of Management and Budget (OMB). To ensure timely receipt of comments, and to avoid potential delays in OMB's receipt and processing of mail sent through the U.S. Postal Service, commenters are encouraged to submit their comments to OMB via email to: OIRA_Submission@omb.eop.gov. Although commenters are encouraged to send their comments via email, commenters may also fax their comments to: 202-395-7285. Commenters may also mail them to: Office of Management and Budget, Office of Information and Regulatory Affairs, New Executive Office Building, Room 10102, Washington, DC 20503.

Summer King,
Statistician.

[FR Doc. 2012-20718 Filed 8-22-12; 8:45 am]

BILLING CODE 4162-20-P